DEPARTMENT OF THE INTERIOR

Fish and Wildlife Service

Proposed Habitat Conservation Plan for the Northern Spotted Owl, Napa County, CA

AGENCY: Fish and Wildlife Service, Interior.

ACTION: Notice of availability.

SUMMARY: The Fish and Wildlife Service (Service) has received an application for an incidental take permit from Terra Springs, LLC (the “applicant”) for the northern spotted owl (Strix occidentalis caurina) pursuant to section 10(a)(1)(B) of the Endangered Species Act of 1973, as amended (Act). The applicant addresses the potential for “take” of the threatened northern spotted owl associated with timber harvest and conversion of timberlands to vineyards within a 76 acre area in Napa County (the “covered lands”). These activities (the “covered activities”) are those associated with conversion of 22 acres of forest lands to vineyard and with any subsequent removal of commercial conifer trees from the remainder of the covered lands. A conservation program to minimize and mitigate for the covered activities would be implemented as described in the Terra Springs Low Effect Habitat Conservation Plan (Plan), which would be implemented by the applicant, and which includes management in perpetuity of 41 acres of the parcel as nesting/roosting quality habitat for the northern spotted owl.

We request comments on the permit application, the Plan, and on the preliminary determination that the Plan qualifies as a “Low-effect” Habitat Conservation Plan, eligible for a categorical exclusion under the National Environmental Policy Act. The basis for this determination is discussed in the Environmental Action Statement (EAS), which is also available for public review.

DATES: Written comments should be received on or before November 29, 2002.

ADDRESSES: Comments should be addressed to the Project Leader, Fish and Wildlife Service, Arcata Fish and Wildlife Office, 1655 Heindon Road, Arcata, California 95521. Written comments may be sent by facsimile to (707) 822-8411.

FOR FURTHER INFORMATION CONTACT: Ms. Amedee Brickey, Team Leader, Habitat Conservation Planning Team, at the Arcata Fish and Wildlife Office; telephone: (707) 822-7201.

SUPPLEMENTARY INFORMATION:

Availability of Documents

Individuals wishing copies of the application, Plan, and EAS should contact the Service by telephone at (707) 822-7201 or by letter to the Arcata Fish and Wildlife Office. Copies of these documents also are available for public inspection during regular business hours at the Arcata Fish and Wildlife Office.

Background Information

Section 9 of the Act and Federal regulation prohibit the “take” of animal species listed as endangered or threatened. Take is defined under the Act as harass, harm, pursue, hunt, shoot, wound, kill, trap, capture or collect listed animal species, or attempt to engage in such conduct (16 U.S.C. 1538). However, under limited circumstances, the Service may issue permits to authorize “incidental take” of listed animal species. “Incidental take” is defined by the Act as take that is incidental to, and not the purpose of, carrying out of an otherwise lawful activity. Regulations governing permits for threatened species and endangered species, respectively, are at 50 CFR 17.32 and 50 CFR 17.22.

The applicant is seeking a permit for take of the threatened northern spotted owl (Strix occidentalis caurina) during the life of the permit. The duration of the permit is 30 years.

The Terra Springs LLC site, the covered lands, comprises two adjacent parcels, totaling 76 acres, and is located about 4 miles west of the city of Saint Helena, on the western edge of the Napa Valley between 1,800 and 2,000 feet above sea level. The site is located within a fragmented landscape of conifer, hardwood, and mixed conifer-hardwood forests; agricultural lands including vineyards, orchards, and grazing lands; and scattered wineries, residences, and bed and breakfast facilities. The Terra Springs LLC property currently includes an existing vineyard, orchard, and winery, in addition to approximately 65 acres of forest lands dominated by Douglas-fir trees.

The proposed Terra Springs LLC project includes a Timberland Conversion and Timber Harvest Plan prepared under California Forest Practices Rules. The project would convert 22 acres of forest to vineyard and would also include removal of commercial conifer trees from the remaining acres of forest, consistent with providing 41 acres of nesting/roosting-quality habitat for northern spotted owls.

Northern spotted owls have large home ranges and inhabit lands containing older forest types, or the ecological equivalent, to meet their biological needs. The minimum size of the home range for northern spotted owls that meets their biological needs varies from province to province. Within the Klamath and Coast Provinces of California (which include the proposed Plan area), a 1.3 mile radius area around a nest site or activity center is considered representative of the home range for the species for management purposes. The Terra Springs LLC site is within the home range of one northern spotted owl activity center, site number NSO NP033. This activity center is located approximately 1.1 miles from the Terra Springs site. Thus, forest within the Plan area is considered habitat for the owls associated with the activity center.

The applicant proposes to avoid, minimize, and mitigate the effects of the project on the northern spotted owl by implementing the Plan. Under the Plan the applicant proposes to manage 41 acres of the 76 acres property as forested, nesting/roosting habitat for the northern spotted owl. The applicant will also place a deed restriction on the parcel requiring management of these 41 acres as northern spotted owl habitat, in perpetuity. Currently 30 acres of the 41 acres are nesting/roosting habitat quality. The remaining 11 acres, currently of foraging habitat quality, will be managed to develop into the higher quality nesting/roosting habitat. In addition to mitigation, the Plan also includes measures to minimize take of the northern spotted owl.

No critical habitat for any listed species occurs on the project site.

The Proposed Action consists of the issuance of an incidental take permit and implementation of the Plan, which includes measures to avoid, minimize and mitigate impacts of the project on the northern spotted owl. Three other alternatives are considered in the Plan. Under the No Action Alternative, no permit would be issued. Under the Off-site Mitigation Alternative, roosting and foraging habitat would be purchased and used to replace habitat affected by the proposed activities. Under the Higher Intensive Use Alternative, more intensive land uses than are currently in place or proposed in the Plan would be sought.

The Service has made a preliminary determination that the Plan qualifies as a “low-effect” plan as defined by its Habitat Conservation Planning Handbook (November 1996). Determination of low-effect Habitat Conservation Plans is based on the following three criteria: (1) Implementation of the Plan would result in minor or negligible effects on federally listed, proposed, and candidate species and their habitats; (2) implementation of the Plan would result in minor or negligible effects on other environmental values or resources; and (3) impacts of the Plan, considered together with the impacts of other past, present and reasonably foreseeable similarly situated projects would not result, over time, in cumulative effects to environmental values or resources which would be considered significant.

Therefore, the Service has preliminarily determined that approval of the Plan qualifies as a categorical exclusion under the National Environmental Policy Act, as provided by the Department of the Interior Manual (516 DM 2, appendix 1 and 516 DM 6, appendix 1). Based upon this preliminary determination, we do not intend to prepare further National Environmental Policy Act documentation. We will consider public comments in making our final determination on whether to prepare such additional documentation.

The Service provides this notice pursuant to section 10(c) of the Act. All comments received, including names and addresses, will become part of the administrative record and may be made available to the public. We will evaluate the permit application, the Plan, and comments submitted thereon to determine whether the application meets the requirements of section 10(a) of the Act. If the requirements are met, we will issue a permit to Terra Springs, LLC for the incidental take of the northern spotted owl from conversion of 22 acres of forest lands to vineyard and any subsequent removal of commercial conifer trees from the remainder of the covered lands. We will make the final permit decision no sooner than 30 days from the date of this notice.

Dated: October 22, 2002.
Miel R. Corbett,
Acting Deputy Manager, Region 1, California/Nevada Operations Office, Sacramento, California.

[FR Doc. 02-27424 Filed 10-28-02; 8:45 am]

BILLING CODE 4310-55-P